FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Maxfreight International Logistics, Inc., 708 S. Hindry Avenue, Inglewood, CA 90301, Officers: David Yasuo Miyamoto, CEO (Qualifying Individual), Barry Chiang, Director

Five Continent Line, L.L.C., 2065 S. Escondido Blvd., #101, Escondido, CA 92025, Officer: Alycia Cerini, Managing Member (Qualifying Individual)

Logical Solution Services, Inc. dba Cruz World Shipping, 317 Brick Blvd., Brick, NJ 08723, Officers: Victor Cruz, President (Qualifying Individual)

Non-Vessel-Operating Common Carrier and Ocean Freight Forwarder Transportation Intermediary Applicant

International Trade Management Group, LLC, 611 Live Oak Drive, McLean, VA 22101, Officers: Lahyan Diab, Member, Isahm Diab, Member

Ocean Freight Forwarder—Ocean Transportation Intermediary Applicant

World Wide International, Inc., 5900 Roche Drive, Suite LL 20, Columbus, OH 43229, Officers: Carolyn Sue Logan, President (Qualifying Individual), Melvin C. Logan, Vice President.

Dated: November 18, 2005.
Bryant L. VanBrakle,
Secretary.

[FR Doc. 05-23178 Filed 11-22-05; 8:45 am]

BILLING CODE 6730-01-P